ENVIRONMENTAL PROTECTION AGENCY

40 CFR Part 52

[EPA-R03-OAR-2007-0794; FRL-8500-6]

Approval and Promulgation of Air Quality Implementation Plans; Maryland; Amendments to the Control of VOC Emissions From Consumer Products

AGENCY: Environmental Protection Agency (EPA).

ACTION: Final rule.

SUMMARY: EPA is approving a State Implementation Plan (SIP) revision submitted by the State of Maryland. This SIP revision pertains to the control of volatile organic compound (VOC) emissions from consumer products based on the 2006 Ozone Transport Commission (OTC) model rule for consumer products. Maryland's amendments to the consumer products rule include fourteen categories that are new, including subcategories with new product category definitions and VOC limits; one previously regulated category with a more restrictive VOC limit; and two previously regulated categories with additional requirements. EPA is approving this SIP revision in accordance with the Clean Air Act (CAA).

DATES: Effective Date: This final rule is effective on January 9, 2008.

ADDRESSES: EPA has established a docket for this action under Docket ID Number EPA-R03-OAR-2007-0794. All documents in the docket are listed in the www.regulations.gov website. Although listed in the electronic docket, some information is not publicly available, i.e., confidential business information (CBI) or other information whose disclosure is restricted by statute. Certain other material, such as copyrighted material, is not placed on the Internet and will be publicly available only in hard copy form. Publicly available docket materials are available either electronically through www.regulations.gov or in hard copy for public inspection during normal business hours at the Air Protection Division, U.S. Environmental Protection Agency, Region III, 1650 Arch Street, Philadelphia, Pennsylvania 19103. Copies of the State submittal are available at the Maryland Department of the Environment, 1800 Washington Boulevard, Suite 705, Baltimore, Maryland.

FOR FURTHER INFORMATION CONTACT: Rose Quinto, (215) 814-2182, or by e-mail at quinto.rose@epa.gov.

SUPPLEMENTARY INFORMATION:

I. Background

On October 4, 2007 (72 FR 56707), EPA published a notice of proposed rulemaking (NPR) for the State of Maryland. The NPR proposed approval of amendments to the control of VOC emissions from consumer products. The formal SIP revision (#07-08) was submitted by the Maryland Department of the Environment (MDE) on June 18, 2007. Maryland's consumer products rule incorporates the changes made by the California Air Resources Board (CARB) in 2005 that the OTC developed as a model rule for consumer products in 2006. These amendments affect 18 categories of consumer products. Fourteen categories are new, including subcategories with new product category definitions and VOC limits; one previously regulated category with a more restrictive VOC limit; and two previously regulated categories with additional requirements. The compliance date for these categories is January 1, 2009.

The new categories are: (1) Adhesive remover with four subcategories: floor or wall covering, gasket or thread locking, general purpose and specialty; (2) anti-static product; (3) electrical cleaner; (4) electronic cleaner; (6) fabric refresher; (7) footwear or leather care product; (8) hair styling product that will incorporate hair styling gel and include additional forms of hair styling products (i.e.; liquid, semi-solid, and pump spray) but does not include hair spray product or hair mousse; (9) graffiti remover; (10) shaving gel; (11) toilet/urinal care product; and (12) wood cleaner. The previously regulated category with a more restrictive limit is contact adhesive that has been separated into two subcategories: General purpose and special purpose. The previously regulated categories with additional requirements are air fresheners and general purpose degreasers.

The rationale for EPA's proposed action are explained in the NPR and will not be restated here. No public comments were received on the NPR.

II. Final Action

EPA is approving the amendments to the control of VOC emissions from consumer products as a revision to the Maryland SIP. This SIP revision was submitted by MDE on June 18, 2007.

III. Statutory and Executive Order Reviews

A. General Requirements

Under Executive Order 12866 (58 FR 51735, October 4, 1993), this action is not a “significant regulatory action” and therefore is not subject to review by the Office of Management and Budget. For this reason, this action is also not subject to Executive Order 13211, “Actions Concerning Regulations That Significantly Affect Energy Supply, Distribution, or Use” (66 FR 28355, May 22, 2001). This action merely approves state law as meeting Federal requirements and imposes no additional requirements beyond those imposed by state law. Accordingly, the Administrator certifies that this rule will not have a significant economic impact on a substantial number of small entities under the Regulatory Flexibility Act (5 U.S.C. 601 et seq.). Because this rule approves pre-existing requirements under state law and does not impose any additional enforceable duty beyond that required by state law, it does not contain any unfunded mandate or significantly or uniquely affect small governments, as described in the Unfunded Mandates Reform Act of 1995 (Pub. L. 104-4). This rule also does not have tribal implications because it will not have a substantial direct effect on one or more Indian tribes, on the relationship between the Federal Government and Indian tribes, or on the distribution of power and responsibilities between the Federal Government and Indian tribes, as specified by Executive Order 13175 (65 FR 67249, November 9, 2000). This action also does not have Federalism implications because it does not have substantial direct effects on the States, on the relationship between the national government and the States, or on the distribution of power and responsibilities among the various levels of government, as specified in Executive Order 13132 (64 FR 43255, August 10, 1999). This action merely approves a state rule implementing a Federal requirement, and does not alter the relationship or the distribution of power and responsibilities established in the CAA. This rule also is not subject to Executive Order 13045 “Protection of Children from Environmental Health Risks and Safety Risks” (62 FR 19885, April 23, 1997), because it approves a state rule implementing a Federal standard.

In reviewing SIP submissions, EPA's role is to approve state choices, provided that they meet the criteria of the CAA. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the CAA. Thus, the requirements of section 12(d) of the National Technology Transfer and Advancement Act of 1995 (15 U.S.C. 272 note) do not apply. This rule does not impose an information collection burden under the provisions of the Paperwork Reduction Act of 1995 (44 U.S.C. 3501 et seq.).

B. Submission to Congress and the Comptroller General

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. This rule is not a “major rule” as defined by 5 U.S.C. 804(2).

C. Petitions for Judicial Review

Under section 307(b)(1) of the CAA, petitions for judicial review of this action must be filed in the United States Court of Appeals for the appropriate circuit by February 8, 2008. Filing a petition for reconsideration by the Administrator of this final rule does not affect the finality of this rule for the purposes of judicial review nor does it extend the time within which a petition for judicial review may be filed, and shall not postpone the effectiveness of such rule or action. This action pertaining to the amendments of Maryland's consumer products rule, may not be challenged later in proceedings to enforce its requirements. (See section 307(b)(2).)

List of Subjects in 40 CFR Part 52

Environmental protection, Air pollution control, Incorporation by reference, Ozone, Reporting and recordkeeping requirements, Volatile organic compounds.

Dated: November 20, 2007.
Donald S. Welsh,
Regional Administrator, Region III.

40 CFR part 52 is amended as follows:

PART 52—[AMENDED]

1. The authority citation for part 52 continues to read as follows:

Authority: 42 U.S.C. 7401 et seq.

Subpart V—Maryland

2. In § 52.1070, the table in paragraph (c) is amended by revising entries 26.11.32.01 through 26.11.32.23 and adding entries 26.11.32.24 through 26.11.32.26 to read as follows:

§ 52.1070 Identification of plan.

* * * * *

(c) * * *

EPA-Approved Regulations in the Maryland SIP
Code of Maryland administrative regulations (COMAR) citation | Title/subject | State effective date | EPA approval date | Additional explanation/citation at 40 CFR 52.1100
* * * * * * *
26.11.32 Control of Emissions of Volatile Organic Compound Emissions from Consumer Products
26.11.32.01 | Applicability and Exemptions | 06/18/07 | 12/10/07 [Insert page number where the document begins]
26.11.32.02 | Incorporation by Reference | 06/18/07 | 12/10/07 [Insert page number where the document begins]
26.11.32.03 | Definitions | 06/18/07 | 12/10/07 [Insert page number where the document begins]
26.11.32.04 | Standards—General | 06/18/07 | 12/10/07 [Insert page number where the document begins]
26.11.32.05 | Standards—Requirements for Charcoal Lighter Materials | 08/18/03 | 12/09/03 68 FR 68523 | (c)(185).
26.11.32.06 | Standards—Requirements for Aerosol Adhesives | 06/18/07 | 12/10/07 [Insert page number where the document begins]
26.11.32.07 | Standards—Requirements for Floor Wax Strippers | 08/18/03 | 12/09/03 68 FR 68523 | (c)(185).
26.11.32.08 | Requirements for Contact Adhesives, Electronic Cleaners, Footwear, or Leather Care Products, and General Purpose Cleaners | 06/18/07 | 12/10/07 [Insert page number where the document begins] | New Regulation.
26.11.32.09 | Requirements for Adhesive Removers, Electrical Cleaners, and Graffiti Removers | 06/18/07 | 12/10/07 [Insert page number where the document begins] | New Regulation.
26.11.32.10 | Requirements for Solid Air Fresheners and Toilet and Urinal Care Products | 06/18/07 | 12/10/07 [Insert page number where the document begins] | New Regulation.
26.11.32.11 | Innovative Products—CARB Exemption | 06/18/07 | 12/10/07 [Insert page number where the document begins] | Recodification of existing Regulation .08.
26.11.32.12 | Innovative Products—Department Exemption | 06/18/07 | 12/10/07 [Insert page number where the document begins] | Recodification of existing Regulation .09.
26.11.32.13 | Administrative Requirements | 06/18/07 | 12/10/07 [Insert page number where the document begins] | Recodification of existing.
26.11.32.14 | Reporting Requirements | 06/18/07 | 12/10/07 [Insert page number where the document begins] | Recodification of existing Regulation .11; Amended.
26.11.32.15 | Variances | 06/18/07 | 12/10/07 [Insert page number where the document begins] | Recodification of existing Regulation .12; Amended.
26.11.32.16 | Test Methods | 06/18/07 | 12/10/07 [Insert page number where the document begins] | Recodification of existing Regulation .13; Amended.
26.11.32.17 | Alternative Control Plan (ACP) | 06/18/07 | 12/10/07 [Insert page number where the document begins] | Recodification of existing Regulation .14; Amended.
26.11.32.18 | Approval of an ACP Application | 06/18/07 | 12/10/07 [Insert page number where the document begins] | Recodification of existing Regulation .15; Amended.
26.11.32.19 | Record Keeping and Availability of Requested Information | 06/18/07 | 12/10/07 [Insert page number where the document begins] | Recodification of existing Regulation .16.
26.11.32.20 | Violations | 06/18/07 | 12/10/07 [Insert page number where the document begins] | Recodification of existing Regulation .17.
26.11.32.21 | Surplus Reduction and Surplus Trading | 06/18/07 | 12/10/07 [Insert page number where the document begins] | Recodification of existing Regulation .18; Amended.
26.11.32.22 | Limited-use surplus reduction credits for early formulations of ACP Products | 06/18/07 | 12/10/07 [Insert page number where the document begins] | Recodification of existing Regulation .19; Amended.
26.11.32.23 | Reconciliation of Shortfalls | 06/18/07 | 12/10/07 [Insert page number where the document begins] | Recodification of existing Regulation .20; Amended.
26.11.32.24 | Modifications to an ACP | 06/18/07 | 12/10/07 [Insert page number where the document begins] | Recodification of existing Regulation .21; Amended.
26.11.32.25 | Cancellation of an ACP | 06/18/07 | 12/10/07 [Insert page number where the document begins] | Recodification of existing Regulation .22; Amended.
26.11.32.26 | Transfer of an ACP | 06/18/07 | 12/10/07 [Insert page number where the document begins] | Recodification of existing Regulation .23.
* * * * * * *

* * * * *

[FR Doc. E7-23385 Filed 12-7-07; 8:45 am]

BILLING CODE 6560-50-P